SURFACE TRANSPORTATION BOARD

[Docket No. FD 36049]

CSX Transportation, Inc.—Trackage Rights Exemption—Central Railroad Company of Indianapolis, Chicago d/b/a Ft. Wayne and Eastern Railroad Division

CSX Transportation, Inc. (CSXT), a Class I rail carrier, has filed a verified notice of exemption under 49 CFR 1180.2(d)(7) for its acquisition of limited overhead trackage rights over a 70.4-mile portion of a rail line that Central Railroad Company of Indianapolis, d/b/a Chicago, Ft. Wayne and Eastern Railroad Division (CFE) leases from CSXT.¹ The limited overhead trackage rights are between Lima, Ohio (milepost QF 260.3) and Arcola/Columbia City, Ind. (milepost PC 330.4), the connection to the SDI Facility (Facility) at Arcola, including all sidings, yard tracks, and yard leads now existent or hereafter constructed along the subject tracks.²

¹ CFE was granted authority to lease and operate approximately 273 miles of rail line from CSXT in Central Railroad Co. of Indianapolis—Lease & Operation Exemption—CSX Transportation, Inc., FD 34508 (STB served July 30, 2004).

² CSX states that the parties have entered into a written agreement for the limited overhead trackage rights and a copy of the final Agreement will be filed with the Board when executed. CSX simultaneously filed a motion for a protective order to protect the confidential and commercially sensitive information contained in the Agreement, which CSXT submitted under seal in this proceeding. That motion will be handled separately.

CSXT states that the parties will enter into a written agreement for the limited overhead trackage rights, and a copy of the final trackage rights agreement will be filed with the Board when it is executed.

CSXT states that it acquires finished rail from the Facility for use throughout its system. CFE handles the traffic from the Facility to an interchange with CSXT at Lima. CSXT states that it is more efficient to handle the traffic from the origin at the Facility in single-line service to the various locations on its system where the rail will be used. As part of the lease, CFE agreed to grant CSXT limited overhead trackage rights to directly access the Facility at Arcola. CSXT states it is seeking the trackage rights to directly reach the Facility solely for the purpose of transporting finished rail for use on its system and empty cars in the opposite direction.

The transaction is scheduled to be consummated on November 5, 2016, the effective date of the exemption (30 days after the verified notice of exemption was filed).

As a condition to this exemption, any employees affected by the trackage rights will be protected by the conditions imposed in Norfolk & Western Railway—Trackage Rights—Burlington Northern, Inc., 354 I.C.C. 605 (1978), as modified in Mendocino Coast Railway—Lease & Operate—California Western Railroad, 360 I.C.C. 653 (1980).

This notice is filed under 49 CFR 1180.2(d)(7). If the notice contains false or misleading information, the exemption is void ab initio. Petitions to revoke the exemption under 49 U.S.C. 10502(d) may be filed at any time. The filing of a petition to revoke will not automatically stay the effectiveness of the exemption. Petitions for stay must be filed by October 28, 2016 (at least seven days before the exemption becomes effective).

An original and 10 copies of all pleadings, referring to Docket No. FD 36049, must be filed with the Surface Transportation Board, 395 E Street SW., Washington, DC 20423-0001. In addition, a copy of each pleading must be served on Louis E. Gitomer, 600 Baltimore Ave., Suite 301, Towson, MD 21204.

Board decisions and notices are available on our Web site at “WWW.STB.GOV.”

Decided: October 18, 2016.
By the Board, Rachel D. Campbell, Director, Office of Proceedings.
Rena Laws-Byrum,
Clearance Clerk.

[FR Doc. 2016-25523 Filed 10-20-16; 8:45 am]

BILLING CODE 4915-01-P